DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of the rules appearing in Federal Acquisition Circular (FAC) 2001-11 which amend the FAR. An asterisk (*) next to a rule indicates that a regulatory flexibility analysis has been prepared in accordance with 5 U.S.C. 604. Interested parties may obtain further information regarding these rules by referring to FAC 2001-11 which precedes this document. These documents are also available via the Internet at http://www.arnet.gov/far.

FOR FURTHER INFORMATION CONTACT: Laurie Duarte, FAR Secretariat, (202) 501-4225. For clarification of content, contact the analyst whose name appears in the table below.

List of Rules in FAC 2001-11
Item | Subject | FAR Case | Analyst
I | Special Simplified Procedures For Purchases Of Commercial Items in Excess of the Simplified Acquisition Threshold | 2002-028 | Moss.
II | Section 508 Micro-purchase Exception Sunset Provision | 2002-012 | Nelson.

Item I—Special Simplified Procedures for Purchases of Commercial Items in Excess of the Simplified Acquisition Threshold (FAR Case 2002-028)

This final rule amends FAR Subpart 13.5 to extend the expiration date of the test of special simplified procedures for purchases of commercial items greater than the simplified acquisition threshold but not exceeding $5,000,000 to January 1, 2004. This change implements Section 812 of the National Defense Authorization Act for Fiscal Year 2003 (Pub. L. 107-314). Section 812 amended Section 4202(e) of the Clinger-Cohen Act of 1996 (Divisions D and E of Public Law 104-106; 110 Stat. 654; 10 U.S.C. 2304 note).

Item II—Section 508 Micro-purchase Exception Sunset Provision (FAR Case 2002-012)

This interim rule extends the Electronic and Information Technology (Section 508) micro-purchase exception to October 1, 2004. This rule is of special interest to contracting officers and other individuals designated in accordance with FAR 1.603-3.

Dated: December 20, 2002.
Jeremy F. Olson,
Acting Director, Acquisition Policy Division.

[FR Doc. 02-32740 Filed 12-30-02; 8:45 am]

BILLING CODE 6820-EP-P